DEPARTMENT OF STATE

Office of Recruitment, Examinations and Employment (HR/REE)

[Public Notice 4334]

60-Day Notice of Proposed Information Collection: Form DS-1998, Department of State Registration Form; OMB Control Number 1405-0008

AGENCY: Department of State.

ACTION: Notice.

SUMMARY: The Department of State is seeking Office of Management and Budget (OMB) approval for the information collection described below. The purpose of this notice is to allow 60 days for public comment in the Federal Register preceding submission to OMB. The process is conducted in accordance with the Paperwork Reduction Act of 1995.

The following summarizes the information collection proposal submitted to OMB:

Type of Request: Continuation of a currently approved collection.

Originating Office: Bureau of Human Resources (HR/REE).

Title of Information Collection: Registration for the Foreign Service Written Examination.

Frequency: Annually.

Form Number: DS-1998.

Respondents: Registrants for the Foreign Service Officer Written Examination.

Estimated Number of Respondents: 27,585 per year.

Average Hours Per Response: 20 minutes.

Total Estimated Burden: 9,195 hrs.

Public Comments are being solicited to permit the agency to:

• Evaluate whether the proposed information collection is necessary for the proper performance of the functions of the agency.

• Evaluate the accuracy of the agency's estimate of the burden of the proposed collection, including the validity of the methodology and assumptions used.

• Enhance the quality, utility, and clarity of the information to be collected.

• Minimize the reporting burden on those who are to respond, including through the use of automated collection techniques or other forms of technology.

FOR ADDITIONAL INFORMATION: Public comments, or requests for additional information, regarding the collection listed in this notice should be directed to Beatrice E. Smotherman, Bureau Of Human Resources, Examination Division, Foreign Service Written Examination, U.S. Department of State, Washington, DC 20522, who may be reached at (202) 261-8883.

Dated: February 28, 2003.
Ruben Torres,
Executive Director, Bureau of Human Resourses, Department of State.

[FR Doc. 03-9054 Filed 4-11-03; 8:45 am]

BILLING CODE 4710-15-P